DEPARTMENT OF JUSTICE

U.S. Marshals Service

[OMB Number 1105-0096]

Agency Information Collection Activities; Proposed eCollection eComments Requested; Extension With No Changes, of a Previously Approved Collection; Sequestered Juror Information Form

AGENCY: U.S. Marshals Service, Department of Justice.

ACTION: 30-Day notice.

SUMMARY: The Department of Justice (DOJ), U.S. Marshals Service (USMS), will submit the following information collection request to the Office of Management and Budget (OMB) for review and approval in accordance with the Paperwork Reduction Act of 1995. The proposed information collection was previously published in the Federal Register on August 29, 2018, allowing for a 60-day comment period.

DATES: Comments are encouraged and will be accepted for an additional 30 days until December 3, 2018.

FOR FURTHER INFORMATION CONTACT: If you have additional comments, particularly with respect to the estimated public burden or associated response time, have suggestions, need a copy of the proposed information collection instrument with instructions, or desire any other additional information, please contact Nicole Timmons either by mail at CG-3, 10th Floor, Washington, DC 20530-0001, by email at Nicole.Timmons@usdoj.gov, or by telephone at 202-236-2646. Written comments and/or suggestions can also be directed to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of this information collection:

(1) Type of Information Collection: Extension of a currently approved collection.

(2) The Title of the Form/Collection: Sequestered Juror Information Form.

(3) The agency form number, if any, and the applicable component of the Department sponsoring the collection:

Form number: Form USM-523A.

Component: United States Marshals Service, U.S. Department of Justice.

(4) Affected public who will be asked or required to respond, as well as a brief abstract:

Primary: Individuals/households.

Abstract: The United States Marshals Service is responsible for ensuring the security of federal courthouses, courtrooms, and federal jurist. This information assists Marshals Service personnel in the planning of, and response to, potential security needs of the court and jurors during the course of proceedings. The authority for collecting the information on this form is 28 U.S.C. 509, 510 and 561 et seq.

(5) An estimate of the total number of respondents and the amount of time estimated for an average respondent to respond: An estimated 14 respondents will utilize the form, and it will take each respondent approximately 4 minutes to complete the form.

(6) An estimate of the total public burden (in hours) associated with the collection: The estimated annual public burden associated with this collection is 1 hour, which is equal to (14 (total # of annual responses) * 4 minutes = 56 minutes or 1 hour).

(7) An Explanation of the Change in Estimates: The adjustments for this information collection are an increase in the number of respondents by 4,500, and an increase in the number of responses by 107,000. As a result of these increases, the annual burden hours has increased by 53,500 hours.

If additional information is required contact: Melody Braswell, Department Clearance Officer, United States Department of Justice, Justice Management Division, Policy and Planning Staff, Two Constitution Square, 145 N Street NE, 3E.405A, Washington, DC 20530.

Dated: October 29, 2018.
Melody Braswell,
Department Clearance Officer for PRA, U.S. Department of Justice.

[FR Doc. 2018-23936 Filed 11-1-18; 8:45 am]

BILLING CODE 4410-14-P